DEPARTMENT OF AGRICULTURE

Forest Service

Information Collection: Recreation Fee Permit Envelope

AGENCY: Forest Service, USDA.

ACTION: Notice; request for comment.

SUMMARY: In accordance with the Paperwork Reduction Act of 1995, the Forest Service is seeking comments from all interested individuals and organizations on the extension, with revision, of a currently approved information collection, 0596-0106 Recreation Fee Permit Envelope.

DATES: Comments must be received in writing on or before May 4, 2009 to be assured of consideration. Comments received after that date will be considered to the extent practicable.

ADDRESSES: Comments concerning this notice should be addressed to Katie Donahue, Recreation, Heritage, and Volunteer Resources Staff, Mail Stop 1125, USDA Forest Service, 1400 Independence Ave. SW., Washington, DC 20250.

Comments also may be submitted via facsimile to Katie Donahue at 202-205-1145 or by e-mail to: recreation2300@fs.fed.us.

The public may inspect comments received at the Office of the Director, Recreation, Heritage and Volunteer Resources Staff, 4th Floor South, Sidney R. Yates Federal Building, 14th and Independence Avenue, SW., Washington, DC 20024 on business days between the hours of 8:30 a.m. and 4 p.m. Visitors are encouraged to call ahead to (202) 205-1169 to facilitate entry to the building.

FOR FURTHER INFORMATION CONTACT: Katie Donahue, Recreation, Heritage, and Volunteer Resources Staff, at 202-205-1169 or recreation2300@fs.fed.us. Individuals who use telecommunication devices for the deaf (TDD) may call the Federal Relay Service (FRS) at 1-800-877-8339 twenty-four hours a day, every day of the year, including holidays.

SUPPLEMENTARY INFORMATION: Title: Recreation Fee Permit Envelope.

OMB Number: 0596-0106.

Expiration Date of Approval: September 1, 2009.

Type of Request: Extension with Revision.

Abstract: The Federal Lands Recreation and Enhancement Act (16 U.S.C. 6801-6814) authorizes the Forest Service to collect recreation fees for use of government facilities and services.

The FS-2300-26, Recreation Fee Envelope, is a form used to document when visitors pay a required recreation fee. Currently, information collected for FS-2300-26 includes the amount enclosed in the envelope, number of days paid, time and date of purchase, visitor's vehicle license number and registered state, visitor's home ZIP-code, number in party, other charges (if applicable), visitor's Golden Passport or Interagency Pass Number (if applicable) and planned departure date, if applicable. The Forest Service is not proposing to change this information.

Also collected for FS-2300-26 is selected camp unit number (if applicable). The Forest Service proposes changing this collection to specify the type of camp unit in addition to the number (single campsite selected, or group campsite selected, and number in group campsite.)

The Forest Service proposes adding optional site- and activity-specific information to this collection, including a selection of the visitor's activity (site name, general recreation use, swim site, off highway vehicle, river use, trailhead, concessionaire-operated site, other).

This information is used to ensure that visitors have paid a required recreation fee. The information will be collected by federal employees and agents who are authorized to collect the recreation fees or rent government facilities. A national forest may use ZIP codes to help determine where the national forest's visitor base originates. Activity information may be used to improve services. Personal information such as names, addresses, and vehicle registration will not be maintained. Collecting this information is important to ensure that the national forests are able to evaluate whether a visitor has paid a required recreation fee.

If unable to collect this information, national forests would not be able to verify who has paid a recreation fee. National forests would not be able to schedule and rent government-owned facilities to the public successfully.

Estimate of Annual Burden: 3 minutes.

Type of Respondents: Individuals.

Estimated Annual Number of Respondents: 2 million.

Estimated Annual Number of Responses per Respondent: 1.

Estimated Total Annual Burden on Respondents: 1,666 hours.

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: February 26, 2009.
Richard W. Sowa,
Acting Associate Deputy Chief, National Forest System.

[FR Doc. E9-4516 Filed 3-3-09; 8:45 am]

BILLING CODE 3410-11-P